DEPARTMENT OF COMMERCE

International Trade Administration

[A-588-810]

Mechanical Transfer Presses From Japan: Notice of Initiation of Changed Circumstances Review of the Antidumping Order, and Preliminary Determination To Revoke the Order, in Part

AGENCY: Import Administration, International Trade Administration, Department of Commerce.

SUMMARY: In accordance with section 351.216(b) of the Department's regulations, Sumitomo Heavy Industries, Ltd. (Sumitomo) filed a request for a changed circumstances review of the antidumping order on mechanical transfer presses from Japan with respect to large, hot-forging presses as described below. Domestic producers of the like product have expressed no interest in continuation of the order with respect to these particular mechanical transfer presses. In response to Sumitomo's request, the Department of Commerce (the Department) is initiating a changed circumstances review with respect to this request and issuing a notice of intent to revoke, in part, the antidumping duty order on mechanical transfer presses from Japan as it pertains to large, hot-forging presses. Interested parties are invited to comment on these preliminary results.

EFFECTIVE DATE: July 10, 2001.

FOR FURTHER INFORMATION CONTACT: Mark Hoadley, Import Administration, International Trade Administration, U.S. Department of Commerce, 14th Street and Constitution Avenue, NW., Washington, DC 20230; telephone: (202) 482-0666.

The Applicable Statute and Regulations

Unless otherwise indicated, all citations to the statute are references to the provisions effective January 1, 1995, the effective date of the amendments made to the Tariff Act of 1930, as amended (“the Act”), by the Uruguay Round Agreements Act. In addition, unless otherwise indicated, all citations to the Department's regulations are to the regulations as codified at 19 CFR part 351 (2000).

SUPPLEMENTARY INFORMATION:

Background

On May 3, 2001, Sumitomo requested that the Department revoke, in part, the antidumping duty order on mechanical transfer presses from Japan as it pertains to large, hot-forging presses. Specifically, Sumitomo requested that the Department revoke the order with respect to imports meeting the following specifications: automatic forging presses within the current scope of the order, which operate at a forging temperature of 900 degrees centigrade or higher, and which have a capacity of 1600 metric tons or greater. Sumitomo is a foreign producer of the products in question.

Attached to its request, Sumitomo submitted two letters from the only two domestic parties claiming to be producers of subject merchandise, Enprotech Mechanical Services, Inc. (Enprotech) and IHI-Verson Press Technology, LLC. (Verson), stating that they did not oppose excluding large, hot-forging presses, as defined above, from the scope of the order.

On June 11, 2001, we sent letters to all three domestic interested parties who have expressed an interest in this proceeding, the two domestic producers noted above and the International Union, United Auto Workers, requesting comments either supporting or objecting to the revocation of the order, in part, with respect to large, hot-forging presses by June 15, 2001. As foreign producers participated in an earlier request for a changed circumstances review, we sent the same letter to Komatsu Ltd., Hitachi Zosen Corporation, and Hitachi Zosen Fukui Corporation, foreign producers of the subject merchandise. We received no comments in opposition to the changed circumstances review or the revocation, in part.

Scope of Review

Imports covered by this review include MTPs currently classifiable under Harmonized Tariff Schedule (HTSUS) item numbers 8462.99.0035 and 8466.94.5040. The HTSUS subheadings are provided for convenience and Customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled. This review does not cover certain parts and accessories, which were determined to be outside the scope of the order. (See “Final Scope Ruling on Spare and Replacement Parts,” U.S. Department of Commerce, March 20, 1992; and “Final Scope Ruling on the Antidumping Duty Order on Mechanical Transfer Presses (MTPs) from Japan: Request by Komatsu, Ltd.,” U.S. Department of Commerce, October 3, 1996.)

Initiation of Changed Circumstances Antidumping Duty Administrative Review, and Intent To Revoke Order in Part

Section 351.222(g) of the Department's regulations provides that the Department will conduct a changed circumstances administrative review under section 351.216, and may revoke an order (in whole or in part), if it determines that producers accounting for substantially all of the production of the domestic like product to which the order pertains have expressed a lack of interest in the relief provided by the order, in whole or in part, or if other changed circumstances sufficient to warrant revocation exist. See also sections 751(b) and 782(h)(2) of the Act. In addition, in the event that the Department concludes that expedited action is warranted, section 351.221(c)(3)(ii) of the regulations permits the Department to combine the notices of initiation and preliminary results.

In the Memorandum to Joseph A. Spetrini from Barbara E. Tillman, Request for Changed Circumstances Review (April 13, 2001) (on file in the Central Records Unit of the Department of Commerce, Room B-099), the Department denied a previous request by Sumitomo to initiate a changed circumstances review and partially revoke the order as it pertains to large, hot-forging presses, as defined above, because of a lack of support from petitioners. We believe, however, that the necessary support has been demonstrated in this request and have determined to initiate a changed circumstances review. As stated above, two letters of support from the domestic producers have been placed on the record. We received no objections to the request.

Furthermore, because petitioners have expressed a lack of interest in large, hot-forging presses, we determine that expedited action is warranted and are combining the notice of initiation and preliminary results, in accordance with section 351.221(c)(3)(ii) of our regulations. Therefore, we are hereby notifying the public of our preliminary determination to revoke, in part, the antidumping duty order with respect to large, hot-forging presses from Japan meeting the above description.

If the final revocation, in part, occurs, we intend to instruct the U.S. Customs Service (“Customs”) to liquidate without regard to antidumping duties, as applicable, and to refund any estimated antidumping duties collected for all unliquidated entries of large, hot-forging presses meeting the specifications indicated above, and not subject to final results of administrative review, as of the date of publication in the Federal Register of the final results of this changed circumstances review in accordance with section 351.222 of the regulations. We will also instruct Customs to pay interest on such refunds in accordance with section 778 of the Act. The current requirement for a cash deposit of estimated antidumping duties on large, hot-forging presses meeting the above specifications will continue unless and until we publish a final determination to revoke, in part.

Public Comment

Interested parties are invited to comment on these preliminary results. Parties who submit argument in this proceeding are requested to submit with the argument (1) a statement of the issue, and (2) a brief summary of the argument. Parties to the proceeding may request a hearing within 14 days of publication of this notice. Any hearing, if requested, will be held no later than two days after the deadline for the submission of rebuttal briefs, or the first workday thereafter. Case briefs may be submitted by interested parties not later than 14 days after the date of publication of this notice. Rebuttal briefs and rebuttals to written comments, limited to the issues raised in those comments, may be filed not later than five days after the deadline for submission of case briefs. All written comments shall be submitted in accordance with section 351.303 of the regulations and shall be served on all interested parties on the Department's service list in accordance with section 351.303. Persons interested in attending the hearing should contact the Department for the date and time of the hearing. The Department will publish the final results of this changed circumstances review, including the results of its analysis of issues raised in any written comments.

This notice is published in accordance with section 751(b)(1) of the Act and sections 351.216 and 351.222 of the regulations.

Dated: June 20, 2001.
Faryar Shirzad,
Assistant Secretary for Import Administration.

[FR Doc. 01-17232 Filed 7-9-01; 8:45 am]

BILLING CODE 3510-DS-P